DEPARTMENT OF TRANSPORTATION

Office of the Secretary

Notice of Applications for Certificates of Public Convenience and Necessity and Foreign Air Carrier Permits Filed Under Subpart B (Formerly Subpart Q) During the Week Ending February 27, 2010

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0048.

Date Filed: February 25, 2010.

Due Date for Answers, Conforming Applications, or Motion to Modify Scope:March 18, 2010.

Description: Application of ACG Air Cargo Germany GmbH (“ACG”) requesting a foreign air carrier permit to the full extent authorized by the Air Transport Agreement between the United States and the European Community and the Member States of the European Community to enable it to engage in: (i) Foreign scheduled and charter air transportation of property and mail from any point or points behind any Member State of the European Union via any point or points in any Member State and via intermediate points to any point or points in the United States and beyond; (ii) foreign scheduled and charter air transportation of property and mail between any point or points in the United States and any point or points in any member of the European Common Aviation Area; (iii) foreign scheduled and charter air transportation of property and mail between the United States and any point or points; (iv) other charters pursuant to prior approval requirements; and (v) transportation authorized by any additional route rights made available to European Community carriers in the future. ACG further requests exemption authority to the extent necessary to enable it to provide the services described above pending the issuance of a foreign air carrier permit and such additional or other relief as the Department may deem necessary or appropriate.

Docket Number: DOT-OST-2010-0049.

Date Filed: February 25, 2010.

Due Date for Answers, Conforming Applications, or Motion to Modify Scope:March 18, 2010.

Description:Application of TUI Airlines Nederland, B.V. d/b/a Arkefly (Arkefly) requesting an exemption and a foreign air carrier permit authorizing Arkdfly to conduct operations to and from the United States to the full extent authorized by the United States-European Union Air Transport Agreement, including authority to engage in: (i) Charter foreign air transportation of persons, property and mail from any point(s) behind any Member State(s) of the European Community via any point(s) in any Member State(s) and intermediate points to any point(s) in the United States and beyond; (ii) charter Foreign air transportation of persons, property and mail between any point(s) in the United States and any point(s) in any member of the European Common Aviation Area; (iii) charter foreign cargo air transportation between any point(s) in the United States and any other point(s); (iv) other charters pursuant to the prior approval requirements; and (v) transportation authorized by any additional route or other right(s) made available to European Community carrier in the future. Arkefly also registers its trade name pursuant to Part 215.

Renee V. Wright,
Program Manager, Docket Operations, Federal Register Liaison.

[FR Doc. 2010-5409 Filed 3-11-10; 8:45 am]

BILLING CODE 4910-9X-P